DEPARTMENT OF HEALTH AND HUMAN SERVICES

Administration for Children and Families

Proposed Information Collection Activity; Comment Request

Proposed Projects

Title: Examining Services and Best Practices of Intermediary Organizations.

OMB No.: New Collection.

Description: Currently, DHHS/ACF is conducting the project “Examining Services and Best Practices of Intermediary Organizations and the Faith- and Community-Based Organizations They Serve.” The purpose of the project will be to examine (1) The role of intermediary organizations in assisting faith- and community-based organizations in building their capacity to serve needy individuals and families; (2) innovative and best practices among intermediary organizations; (3) promising practices among faith- and community-based organizations; (4) methods to evaluate the services of both types of organizations; and (5) methods to assess and benchmark performance among faith- and community-based groups. Priority will be given to programs that focus on the following areas: homelessness, hunger, at-risk children, transition from welfare to work, and intensive rehabilitation.

Respondents:

Annual Burden Estimates
Instrument | Number of respondents | Number of responses per respondent | Average burden hours per response | Total burden hours
Intermediary Staff Interview Guide | 40 | 2 | 1 | 80
Frontline Staff Interview Guide | 50 | 2 | 1 | 100
Estimated Total Annual Burden Hours: |  |  |  | 180

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 21, 2003.
Robert Sargis,
Reports Clearance Officer.

[FR Doc. 03-1970 Filed 1-28-03; 8:45 am]

BILLING CODE 4184-01-M